NUCLEAR REGULATORY COMMISSION

[Docket Nos. 50-282 and 50-306; NRC-2009-0146]

Northern States Power Company—Minnesota; Notice of Withdrawal of Application for Amendment to Facility Operating License

The U.S. Nuclear Regulatory Commission (NRC, the Commission) has granted the request of Northern States Power Company—Minnesota (the licensee) to withdraw its July 11, 2008 application for proposed amendment to Facility Operating License Nos. DPR-42 and DPR-60 for the Prairie Island Nuclear Generating Plant, Units 1 and 2, located in Goodhue County, Minnesota.

The proposed amendment would have established Conditions, Required Actions, and Completion Times in the Technical Specifications (TSs) for the condition where one steam supply to the turbine-driven auxiliary feedwater (AFW) pump is inoperable concurrent with an inoperable motor-driven AFW train, using the Consolidated Line Item Improvement Process for TS Task Force Traveler (TSTF) 412, Revision 3.

The Commission had previously issued a Notice of Consideration of Issuance of Amendment published in the Federal Register on October 21, 2008 (73 FR 62568). However, by letter dated March 11, 2009, the licensee withdrew the proposed change.

For further details with respect to this action, see the application for amendment dated July 11, 2008, and the licensee's letter dated March 11, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 20th day of March 2009.
For the Nuclear Regulatory Commission.
Thomas J. Wengert,
Senior Project Manager, Plant Licensing Branch III-1, Division of Operating Reactor Licensing, Office of Nuclear Reactor Regulation.

[FR Doc. E9-7493 Filed 4-2-09; 8:45 am]

BILLING CODE 7590-01-P